DEPARTMENT OF EDUCATION

Office of Safe and Drug-Free Schools Overview Information; Readiness and Emergency Management for Schools Grant Program; Notice Inviting Applications for New Awards for Fiscal Year (FY) 2007

Note: The title of the Emergency Response and Crisis Management grant program has been revised to Readiness and Emergency Management for Schools to reflect terminology used in the emergency management field. Hereafter, the grant program under CFDA 84.184E will be referred to as the Readiness and Emergency Management for Schools grant program.

Catalog of Federal Domestic Assistance (CFDA) Number: 84.184E

Dates: Applications Available: April 6, 2007.

Deadline for Transmittal of Applications: May 21, 2007.

Deadline for Intergovernmental Review: July 24, 2007.

Eligible Applicants: Local educational agencies (LEAs).

Note: The Secretary is limiting eligibility under the Readiness and Emergency Management for Schools grant competition (CFDA Number 84.184E) to applicants that do not currently have an active grant under this program. For the purpose of this eligibility requirement, a grant is considered active until the end of the grant's project or funding period, including any extensions of those periods that extend the grantee's authority to obligate funds (71 FR 70369).

Estimated Available Funds: $24,000,000. Contingent upon the availability of funds and the quality of applications, the Secretary may make additional awards later in FY 2007 and in FY 2008 and subsequent years from the rank-ordered list of unfunded applicants from this competition.

Estimated Range of Awards: $100,000—$500,000.

Estimated Average Size of Awards: $100,000 for small districts (1-20 school facilities); $250,000 for medium-sized districts (21-75 school facilities); and $500,000 for large districts (76 or more school facilities).

Estimated Number of Awards: 73.

Note: The Department is not bound by any estimates in this notice.

Project Period: Up to 18 months.

Full Text of Announcement

I. Funding Opportunity Description

Purpose of Program: The Readiness and Emergency Management for Schools (REMS) grant competition supports efforts by LEAs to improve and strengthen their school emergency management plans, including training school personnel and students in emergency response procedures; communicating emergency plans and procedures with parents; and coordinating with local law enforcement, public safety, public health, and mental health agencies.

Priorities: These priorities are from (1) the notice of final priorities and other application requirements for this program, published in the Federal Register on June 21, 2005 (70 FR 35652) and (2) the notice of final priorities published in the Federal Register on May 11, 2006 (71 FR 27576).

Absolute Priority: For FY 2007 and any subsequent year in which we make awards based on the list of unfunded applications from this competition, this priority is an absolute priority. Under 34 CFR 75.105(c)(3) we consider only those applications that meet this priority.

This priority is:

Improvement and Strengthening of School Emergency Management Plans

This priority supports local educational agency (LEA) projects to improve and strengthen emergency management plans, at the district and school-building level addressing the four phases of emergency management: Prevention-Mitigation, Preparedness, Response, and Recovery. Plans must include: (1) Training for school personnel and students in emergency management procedures; (2) Coordination with local law enforcement, public safety, public health, and mental health agencies; and (3) A method for communicating school emergency management policies and reunification procedures to parents and guardians.

Competitive Preference Priorities: For FY 2007, and any subsequent year in which we make awards based on the list of unfunded applicants from this competition, these priorities are competitive preference priorities. Under 34 CFR 75.105(c)(2)(i) we award an additional 10 points to an application that meets Priority 1 and we award an additional 5 points to an application that meets Priority 2. Applications that qualify for Priorities 1 and 2 will receive points only under Priority 1.

These priorities are:

Priority 1—Competitive Preference Priority for LEAs That Have Not Previously Received a Grant Under the REMS Program (CFDA 84.184E) and Are Located in an Urban Areas Security Initiative Jurisdiction

Under this priority, we give a competitive preference to applications from local educational agencies (LEAs) that (1) have not yet received a grant under this program (CFDA 84.184E) and (2) are located in whole or in part within Urban Areas Security Initiative (UASI) jurisdictions, as determined by the U.S. Department of Homeland Security (DHS). An applicant must meet both of these criteria in order to receive the competitive preference. Under a consortium application, all members of the LEA consortium need to meet both criteria to be eligible for the preference. Applications submitted by educational service agencies (ESAs) are eligible under this priority if each LEA to be served by the grant is located within a UASI jurisdiction and has not received funding under this program directly, or as the lead agency or as a partner in a consortium; however the ESA itself may have received a previous grant.

Because DHS' determination of UASI jurisdictions may change from year to year, applicants under this priority must refer to the most recent list of UASI jurisdictions published by DHS when submitting their applications.

Note: The Governor of each State has designated a State Administrative Agency (SAA) as the entity responsible for applying for, and administering, funds under the Department of Homeland Security Grant Program (which includes the UASI program). The SAA is also responsible for defining the geographic borders for jurisdictions included in the UASI program. Guidance on jurisdiction definitions can be found at: http://www.ojp.usdoj.gov/odp/grants_hsgp.htm.

Priority 2—Competitive Preference Priority for LEAs That Have Not Previously Received a Grant Under the REMS Program (CFDA 84.184E)

Under this priority, we give competitive preference to applications from local educational agencies (LEAs) that have not previously received a grant under this program (CFDA 84.184E). Applicants (other than educational service agencies (ESAs)) that have received funding under this program directly, or as the lead agency or as a partner in a consortium application under this program, will not receive competitive preference under this priority. For applications submitted by ESAs, each LEA to be served by the grant must not have received funding under this program directly, or as the lead agency, or as a partner in a consortium application, in order for the ESA to be eligible under this priority; however the ESA itself may have received a previous grant.

Other Application Requirements: These requirements are from (1) the notice of final priorities and other application requirements for this program, published in the Federal Register on June 21, 2005 (70 FR 35652) and (2) the notice of final priorities and application requirements published in the Federal Register on May 11, 2006 (71 FR 27576).

1. Partner Agreements. To be considered for a grant award, an applicant must include in its application an agreement that details the participation of each of the following five community-based partners: Law enforcement, public safety, public health, mental health, and the head of the applicant's local government (for example, the mayor, city manager, or county executive). The agreement must include a description of each partner's roles and responsibilities in improving and strengthening emergency management plans at the district and school-building level, a description of each partner's commitment to the continuation and continuous improvement of emergency management plans at the district and school-building level, and an authorized signature representing the LEA and each partner acknowledging the agreement. If one or more of the five partners listed is not present in the applicant's community, or cannot feasibly participate, the agreement must explain the absence of each missing partner. To be considered eligible for funding, however, an application must include a signed agreement between the LEA, a law enforcement partner, and at least one of the other required partners (public safety, public health, mental health, or head of local government).

Applications that fail to include the required agreement, including information on partners' roles and responsibilities and on their commitment to continuation and continuous improvement (with signatures and explanations for missing signatures as specified above), will not be read.

Although this program requires partnerships with other parties, administrative direction and fiscal control for the project must remain with the LEA.

2. Coordination with State or Local Homeland Security Plan. All emergency management plans must be coordinated with the Homeland Security Plan of the State or locality in which the LEA is located. All States submitted such a plan to the Department of Homeland Security on January 30, 2004. To ensure that emergency services are coordinated, and to avoid duplication of effort within States and localities, applicants must include in their applications an assurance that the LEA will coordinate with, and follow, the requirements of its State or local Homeland Security Plan for emergency services and initiatives.

3. Implementation of the National Incident Management System (NIMS). Applicants must agree to implement their grant in a manner consistent with the implementation of the NIMS in their communities. Applicants must include in their applications an assurance that they have met, or will complete, all current NIMS requirements by the end of the grant period.

Because DHS' determination of NIMS requirements may change from year to year, applicants must refer to the most recent list of NIMS requirements published by DHS when submitting their applications. In any notice inviting applications, the Department will provide applicants with information necessary to access the most recent DHS list of NIMS requirements. Information about the FY 2007 NIMS requirements for tribal governments and local jurisdictions, including LEAs, may be found at: http://www.fema.gov/pdf/emergency/nims/imp_mtrx_tribal.pdf.

Note: An LEA's NIMS compliance must be achieved in close coordination with the local government and with recognition of the first responder capabilities held by the LEA and the local government. As LEAs are not traditional response organizations, first responder services will typically be provided to LEAs by local fire and rescue departments, emergency medical service providers, and law enforcement agencies. This traditional relationship must be acknowledged in achieving NIMS compliance in an integrated NIMS compliance plan for the local government and the LEA. LEA participation in the NIMS preparedness program of the local government is essential to ensure that first responder services are delivered to schools in a timely and effective manner. Additional information about NIMS implementation is available at: http://www.fema.gov/emergency/nims/nims_compliance.shtm.

4. Individuals with Disabilities. The applicant's plan must demonstrate that the applicant has taken into consideration the communication, transportation, and medical needs of individuals with disabilities within the school district.

5. Infectious Disease Plan. To be considered for a grant award, applicants must agree to develop a written plan designed to prepare the LEA for a possible infectious disease outbreak, such as pandemic influenza. Plans must address the four phases of emergency management (Mitigation-Prevention, Preparedness, Response, and Recovery) and include a plan for disease surveillance (systematic collection and analysis of data that lead to action being taken to prevent and control a disease), school closure decision-making, business continuity (processes and procedures established to ensure that essential functions can continue during and after a disaster), and continuation of educational services.

Program Authority: 20 U.S.C. 7131.

Applicable Regulations: (a) The Education Department General Administrative Regulations (EDGAR) in 34 CFR parts 75, 77, 79, 80, 81, 82, 84, 85, 97, 98, 99, and 299. (b) The notice of final priority and other application requirements published in the Federal Register on June 21, 2005 (70 FR 35652). (c) The notice of final priorities and application requirements published in the Federal Register on May 11, 2006 (71 FR 27576). (d) The notice of final eligibility requirement for the Office of Safe and Drug-Free Schools discretionary grant programs published in the Federal Register on December 4, 2006 (71 FR 70369).

Note: The regulations in 34 CFR part 79 apply to all applicants except Federally recognized Indian tribes.

II. Award Information

Type of Award: Discretionary grants.

Estimated Available Funds: $24,000,000. Contingent upon the availability of funds and the quality of applications, the Secretary may make additional awards later in FY 2007 and in FY 2008 and subsequent years from the rank-ordered list of unfunded applicants from this competition.

Estimated Range of Awards: $100,000-$500,000.

Estimated Average Size of Awards: $100,000 for small districts (1-20 school facilities); $250,000 for medium-sized districts (21-75 school facilities); and $500,000 for large districts (76 or more school facilities).

Estimated Number of Awards: 73.

Note: The Department is not bound by any estimates in this notice.

Project Period: Up to 18 months.

III. Eligibility Information

1. Eligible Applicants: LEAs.

Note: The Secretary is limiting eligibility under the Readiness and Emergency Management for Schools grant competition (CFDA 84.184E) to applicants that do not currently have an active grant under this program. For the purpose of this eligibility requirement, a grant is considered active until the end of the grant's project or funding period, including any extensions of those periods that extend the grantee's authority to obligate funds (71 FR 70369).

2. Cost Sharing or Matching: This program does not involve cost sharing or matching.

3. Other:

(a) Equitable Participation by Private School Children and Teachers.

Section 9501 of the Elementary and Secondary Education Act of 1965, as amended (ESEA), requires that SEAs, LEAs, or other entities receiving funds under the Safe and Drug-Free Schools and Communities Act provide for the equitable participation of private school children, their teachers, and other educational personnel in private schools located in areas served by the grant recipient. In order to ensure that grant program activities address the needs of private school children, LEAs must engage in timely and meaningful consultation with private school officials during the design and development of the program. This consultation must take place before any decision is made that affects the opportunities of eligible private school children, teachers, and other educational personnel to participate.

In order to ensure equitable participation of private school children, teachers, and other educational personnel, an LEA must consult with private school officials on issues such as: Hazards/vulnerabilities unique to private schools in the LEA's service area, training needs, and existing emergency management plans and crisis response resources already available at private schools.

(b) Maintenance of Effort.

Section 9521 of the ESEA requires that LEAs may receive a grant only if the State educational agency finds that the combined fiscal effort per student or the aggregate expenditures of the LEA and the State with respect to the provision of free public education by the LEA for the preceding fiscal year was not less than 90 percent of the combined effort or aggregate expenditures for the second preceding fiscal year.

IV. Application and Submission Information

1. Address To Request Application Package: Education Publications Center (ED Pubs), P.O. Box 1398, Jessup, MD 20794-1398. Telephone (toll free): 1-877-433-7827. Fax: 1-301-470-1244. If you use a telecommunications device for the deaf (TDD), you may call (toll free): 1-877-576-7734.

You may also contact ED Pubs at its Web site: http://www.ed.gov/pubs/edpubs.html or you may contact ED Pubs at its e-mail address: edpubs@inet.ed.gov

If you request an application from ED Pubs, be sure to identify this competition as follows: CFDA number 84.184E.

You may also access the electronic version of the application at the following Web sites: http://www.grants.gov or http://www.ed.gov/fund/grant/apply/grantapps/index.html.

Individuals with disabilities may obtain a copy of the application package in an alternative format (e.g., Braille, large print, audiotape, or computer diskette) by contacting the program contact person listed in this section.

The public can also obtain applications directly from the program office: Sara Strizzi, U.S. Department of Education, 400 Maryland Avenue, SW., room 3E320, Washington, DC. 20202-6450. Telephone: (202) 708-4850 or by e-mail: sara.strizzi@ed.gov.

If you use a telecommunications device for the deaf (TDD), you may call the Federal Relay Service (FRS) at 1-800-877-8339.

2. Content and Form of Application Submission: Requirements concerning the content of an application, together with the forms you must submit, are in the application package for this competition.

3. Submission Dates and Times: Applications Available: April 6, 2007. Deadline for Transmittal of Applications: May 21, 2007.

Applications for grants under this competition may be submitted electronically using the Grants.gov Apply site (Grants.gov), or in paper format by mail or hand delivery. For information (including dates and times) about how to submit your application electronically, or by mail or hand delivery, please refer to section IV (6). Other Submission Requirements in this notice.

We do not consider an application that does not comply with the deadline requirements.

Individuals with disabilities who need an accommodation or auxiliary aid in connection with the application process should contact the person listed under FOR FURTHER INFORMATION CONTACT in section VII of this notice.

Deadline for Intergovernmental Review: July 18, 2007.

4. Intergovernmental Review: This competition is subject to Executive Order 12372 and the regulations in 34 CFR part 79. Information about Intergovernmental Review of Federal Programs under Executive Order 12372 is in the application package for this competition.

5. Funding Restrictions: We reference additional regulations outlining funding restrictions in the Applicable Regulations section of this notice.

6. Other Submission Requirements: Applications for grants under this competition may be submitted electronically or in paper format by mail or hand delivery.

a. Electronic Submission of Applications.

To comply with the President's management Agenda, we are participating as a partner in the Governmentwide Grants.gov Apply site. The Readiness and Emergency Management for Schools grant competition, CFDA Number 84.184E, is included in this project. We request your participation in Grants.gov.

If you choose to submit your application electronically, you must use the Governmentwide Grants.gov Apply site at http://www.grants.gov. Through this site, you will be able to download a copy of the application package, complete it offline, and then upload and submit your application. You may not e-mail an electronic copy of a grant application to us.

You may access the electronic grant application for the Readiness and Emergency Management for Schools grant competition at http://www.Grants.gov. You must search for the downloadable application package for this competition by the CFDA number. Do not include the CFDA number's alpha suffix in your search (e.g., search for 84.184, not 84.184E).

Please note the following:

• Your participation in Grants.gov is voluntary.

• When you enter the Grants.gov site, you will find information about submitting an application electronically through the site, as well as the hours of operation.

• Applications received by Grants.gov are date and time stamped. You application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• After you electronically submit your application, you will receive from Grants.gov an automatic notification of receipt that contains a Grants.gov tracking number. (This notification indicates receipt by Grants.gov only, not receipt by the Department). The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues With the Grants.gov System: If you are experiencing problems submitting your application through Grants.gov, please contact the Grants.gov Support Desk at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed elsewhere in this notice under FOR FURTHER INFORMATION CONTACT and provide an explanation of the technical problems you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.184E), 400 Maryland Avenue, SW., Washington, DC 20202-4260

or

By mail through a commercial carrier: U.S. Department of Education, Application Control Center—Stop 4260, Attention: (CFDA Number 84.184E), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.184E), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: If funded, you are expected to collect data on the key Government Performance and Results Act (GPRA) performance measures for this program and report those data to the Department in your interim performance report and final performance report. At the end of your project period, you must submit a final performance report, including financial information, as directed by the Secretary. You must also submit an interim report nine months after the award date. This report should provide the most current performance and financial expenditure information as specified by the Secretary in 34 CFR 75.118. We may also require more frequent performance reports in accordance with 34 CFR 75.720(c).

4. Performance Measures: We have identified the following key GPRA performance measures for assessing the effectiveness of the Readiness and Emergency Management for Schools grant program: (1) The percentage of Emergency Management Grant sites that demonstrate they have increased the number of hazards addressed by the improved school emergency management plan as compared to the baseline plan; (2) The percentage of Emergency Management Grant sites that demonstrate improved knowledge of school/and or district emergency management policies and procedures by school staff with responsibility for emergency management functions; and (3) The percentage of Emergency Management Grant sites that have a plan for, and commitment to, the sustainability and continuous improvement of the school emergency management plan by the district and community partners beyond the period of Federal financial assistance.

VII. Agency Contact

For Further Information Contact: Sara Strizzi, U.S. Department of Education, 400 Maryland Ave., SW., room 3E320, Washington, DC 20202-6450. Telephone: (202) 708-4850 or by e-mail: sara.strizzi@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text or PDF at the following site: http://www.ed.gov/programs/dvpemergencyresponse/index.html

Note: The official version of this document is the document published in the Federal Register. Free Internet access to the official edition of the Federal Register and the Code of Federal Regulations is available on GPO Access at: http://www.gpoaccess.gov/nara/index.html.

Dated: April 3, 2007.
Deborah A. Price,
Assistant Deputy Secretary for Safe and Drug-Free Schools.

[FR Doc. E7-6503 Filed 4-5-07; 8:45 am]

BILLING CODE 4000-01-P